ENVIRONMENTAL PROTECTION AGENCY

40 CFR Parts 174 and 180

[EPA-HQ-OPP-2018-0577; FRL-9989-71]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before April 17, 2019.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Amended Tolerances for Non-Inerts

1. PP 8E8703. (EPA-HQ-OPP-2018-0683). Interregional Research Project Number 4 (IR-4), 500 College Road East, Suite 201 W, Princeton, NJ 08540, requests, upon approval of the “New Tolerances” entry for PP 8E8703 listed 202F; elsewhere in this publication, to remove the existing tolerances in 40 CFR 180.378 for the combined residues of the insecticide cis- and trans-permethrin isomers [cis-(3-phenoxyphenyl)methyl 3-(2,2-dichloroethenyl)-2,2-dimethylcyclopropane carboxylate] and [trans-(3-phenoxyphenyl)methyl 3-(2,2-dichloroethenyl)-2,2-dimethylcyclopropane carboxylate] in/on the following agricultural commodities Cherry, sweet at 4.0 parts per million (ppm); Cherry, tart at 4.0 ppm; Leaf petioles subgroup 4B at 5.0 ppm; Peach at 1.0 ppm; and Potato at 0.05 ppm. Contact: RD.

2. PP 8E8717. (EPA-HQ-OPP-2018-0783). IR-4, 500 College Road East, Suite 201 W, Princeton, NJ 08540, requests, upon approval of “New Tolerances” for PP 8E8717 listed elsewhere in this publication, to remove the existing tolerance in 40 CFR 180.513 for residues of the insecticide chlorfenapyr, including its metabolites and degradates, determined by measuring only chlorfenapyr, 4-bromo-2-(4-chlorophenyl)-1-(ethoxymethyl)-5-(trifluoromethyl)-1H-pyrrole-3-carbonitrile, in or on the agricultural commodities; Vegetable, fruiting, group 8-10 at 1.0 parts per million. Contact: RD.

3. PP 8F8719. (EPA-HQ-OPP-2018-0793). Makhteshim Agan of North America (d/b/a ADAMA, 3120 Highlands Blvd., Suite 100, Raleigh, NC 27604), requests to: (1) Amend the tolerance expression in 40 CFR 180.680 paragraphs (a) and (d) to read “Tolerances are established for residues of the nematicide fluensulfone, including its metabolites and degradates, in or on the commodities in the table below. Compliance with the tolerance levels specified in the following table below is to be determined by measuring only the sum of fluensulfone, 5-chloro-2-[(3,4,4-trifluoro-3-buten-1-yl)sulfonyl]thiazole and its metabolite, 3,4,4-trifluoro-but-3-ene-1-sulfonic acid, calculated as the stoichiometric equivalent of fluensulfone, in or on the commodity”; and, (2) amend the tolerances in 40 CFR 180.680 for residues of the nematicide, fluensulfone and its metabolite BSA expressed as fluensulfone equivalents, on the raw agricultural commodities as follows: Almond hulls at 5 parts per million (ppm); Fruit, pome, group 11 at 0.4 ppm; Fruit, small vine climbing subgroup 13-07D at 0.8 ppm; Fruit, stone, group 12 at 0.1 ppm; Grain cereal, forage, fodder and straw, group 16 at 3 ppm; and, rotated wheat (inadvertent residues with 90-day PBI): Grain, cereal, group 15 at 0.05 ppm; Molasses at 0.3 ppm; and, rotated cereal grains (inadvertent residues with 10-month PBI): Nut, tree, group 14 at 0.04 ppm; Sugarcane at 0.05 ppm and Wheat grain (includes triticale) (Barley grain; Buckwheat grain; Oat grain; and Teosinte grain) at 0.1 ppm; Wheat bran (Barley bran) at 0.14 ppm; Wheat forage (Oat forage) at 6 ppm; Wheat germ at 0.10 ppm; Wheat hay (Barley hay and Oat hay) at 15 ppm; Wheat middlings at 0.10 ppm; Wheat shorts at 0.11 ppm; and, Wheat straw (Barley straw and Oat straw) at 6 ppm. The Liquid chromatography—Mass Spectrometry mass spectrometry (LC-MS/MS) methods are used to measure and evaluate the chemical fluensulfone plus its metabolite 3,4,4-trifluoro-but-3-ene-1-sulfonic acid (BSA) expressed as fluensulfone equivalents. Contact: RD.

New Tolerance Exemptions for Non-Inerts (Except PIPS)

1. PP 8F8688. (EPA-HQ-OPP-2018-0763). Central Coast Garden Products, 1354 Dayton St., Unit N, Salinas, CA 93901, requests to establish an exemption from the requirement of a tolerance in 40 CFR part 180 for residues of the fungicide and miticide sodium lauryl sulfate in or on all raw agricultural commodities when applied in accordance with good agricultural practices. The petitioner believes no analytical method is needed because the proposed exemption would extend to all food crops with no effective limit. The petitioner further points to the high degradability and minimal toxicity of sodium lauryl sulfate. Contact: BPPD.

New Tolerances for Non-Inerts

1. PP 8E8701. (EPA-HQ-OPP-2018-0644). Interregional Research Project Number 4 (IR-4), IR-4 Project Headquarters, Rutgers, The State University of New Jersey, 500 College Road East, Suite 201 W, Princeton, NJ 08450, requests to establish tolerances in 40 CFR 180.593, for residues of the insecticide etoxazole (2-(2,6-difluorophenyl)-4-[4-(1,1-dimethylethyl)-2-ethoxyphenyl]-4,5-dihydrooxazole) in or on the agricultural commodities Beet, sugar, roots at 0.02 parts per million (ppm); Beet, sugar, dried pulp at 0.04 ppm; and in/on the following plant leaves at 1.0 ppm: Alexanders leaves; Alocasia, leaves; American Solomon's seal, leaves; Angelica, leaves; Angular Solomon's seal, leaves; Arracacha, leaves; Artichoke, Jerusalem, leaves; Astralagus, leaves; Banana, Abyssinian, leaves; Bayberry, leaves; Bean, Goa, leaves ppm; Beet, garden, leaves; Beet, sugar, leaves; Bellflower, Chinese, leaves; Blue ape, leaves; Blue vervain, leaves; Bupleurum, leaves; Burdock, edible, leaves; Butchers broom, leaves; Canna, edible leaves; Carolina redroot, leaves; Carrot, leaves; Cassava, bitter, leaves; Cassava, sweet, leaves; Celeriac, leaves; Chayote, leaves; Chervil, turnip-rooted, leaves; Chicory, leaves; Chinese asparagus, leaves; Chinese-potato, leaves; Chinese skullcap, leaves; Cloveroot, leaves; Coltsfoot, leaves; Common skullcap, leaves; Cumin, black, leaves; Cup plant, leaves; Dahurian angelica, leaves; Dong quai, leaves; Echinacea, leaves; Elephant foot yam, leaves; Fodder beet, leaves; Fodder radish, leaves; Fodder turnip, leaves; Forskohlii, leaves; Fo-ti, leaves; Hydrangea, leaves; Indigo, leaves; Japanese knotweed, leaves; Leren, leaves; King's crown, leaves; Maca, leaves; Madeira vine, leaves; Marshmallow, leaves; Mashua, leaves; Mauka, leaves; Mustard, tuberous rooted Chinese, leaves; Nettle, leaves; Niu Xi, leaves; Oca, leaves; Parsley, turnip rooted, leaves; Parsnip, leaves; Polygala, leaves; Rampion, leaves; Rauwolfia, leaves; Rehmannia, leaves; Rutabaga, leaves; Salsify, leaves; Salsify, black, leaves; Salsify, Spanish, leaves; Schisandra, leaves; Shatavari, leaves; Siberian polygala, leaves; Siberian Solomon's seal, leaves; Silverweed, leaves; Skirret, leaves; Solomon's seal, leaves; Sweet gale, leaves; Sweet potato, leaves; Tanier leaves; Taro, leaves; Ti palm, leaves; Turkish rhubarb, leaves; Tyfon, leaves; Ullucu, leaves; Umckaloaba, leaves; Valerian, leaves; Velvet plant, leaves; Vetiver, roots; White peony, leaves; Yacon, leaves; Yam, Chinese, leaves; Yam, cushcush, leaves; Yam, greater, leaves; Yam, lesser, leaves; Yam, true, leaves; Yam, potato, leaves; Yam, white, leaves; Yam, yellow, leaves; Yellow dock, leaves. Adequate enforcement methodology, Gas Chromatograph/Mass Selective Detector (GC/MSD) is available for detecting and measuring levels of etoxazole to enforce proposed tolerances. Gas chromatography with a nitrogen-phosphorous detector (GC/NPD) enforcement methodology is also available to enforce proposed livestock commodity tolerances. Contact: RD.

2. PP 8E8703. (EPA-HQ-OPP-2018-0683). IR-4, Rutgers, The State University of New Jersey, 500 College Road East, Suite 201W, Princeton, NJ 08540, requests to establish tolerances in 40 CFR 180.378 for the combined residues of the insecticide cis- and trans-permethrin isomers [cis-(3-phenoxyphenyl)methyl 3-(2,2-dichloroethenyl)-2,2-dimethylcyclopropane carboxylate] and [trans-(3-phenoxyphenyl)methyl 3-(2,2-dichloroethenyl)-2,2-dimethylcyclopropane carboxylate] in or on the agricultural commodities Celtuce at 5.0 parts per million (ppm); Cherry subgroup 12-12A at 4.0 ppm; Fennel, Florence at 5.0 ppm; Leaf petiole vegetable subgroup 22B at 5.0 ppm; Peach, subgroup 12-12B at 2.0 ppm; Tea, plucked leaves at 20 ppm; Vegetable, tuberous and corm, subgroup 1C at 0.05 ppm; and a regional tolerance in/on Fruit, small, vine climbing, except fuzzy kiwifruit, subgroup 13-07F at 2.0 ppm. Adequate analytical methods, gas chromatography (GC) electron capture detection (GC/ECD), are available for enforcing tolerances of permethrin in plants with a limit of quantitation (LOQ) of 0.05 ppm, which will allow monitoring of permethrin residues in crops at the levels proposed for the tolerances. Contact: RD.

3. PP 8E8717. (EPA-HQ-OPP-2018-0783). IR-4, 500 College Road East, Suite 201 W, Princeton, NJ 08540, requests to establish tolerances for residues of the insecticide chlorfenapyr, including its metabolites and degradates, determined by measuring only chlorfenapyr, 4-bromo-2-(4-chlorophenyl)-1-(ethoxymethyl)-5-(trifluoromethyl)-1H-pyrrole-3-carbonitrile, in or on the following agricultural commodities; Basil, fresh leaves at 80 parts per million (ppm); Chive, fresh leaves at 20 ppm; Cucumber at 0.5 ppm; and to increase the established tolerance for Vegetable, fruiting, group 8-10 from 1.0 ppm to 2.0 ppm. Adequate analytical methods are available to enforce the tolerance expression. Method M2686 which uses gas chromatography/electron capture detection (GC/ECD) as a primary quantitation method and gas chromatography/Mass Spectrometry (GC/MS) as its confirmatory method is used to determine chlorfenapyr residues in various fruits (such as Stone Fruit, Pome Fruits, Strawberries, and Grapes). Method M2686 (with minor modification if needed) could be used the analysis of chlorfenapyr residues in basil and chives as well as for small fruited tomato and cucumber. Another method, designated as M2427, which uses GC/ECD is suitable for tolerance enforcement purposes for basil and chives. Both methods have a limit of quantitation (LOQ) of 0.05 ppm. Contact: RD.

Authority: 21 U.S.C. 346a.

Dated: February 27, 2019.
Delores Barber,
Director, Information Technology and Resources Management Division, Office of Pesticide Programs.

[FR Doc. 2019-04971 Filed 3-15-19; 8:45 am]

BILLING CODE 6560-50-P